DEPARTMENT OF ENERGY
Federal Energy Regulatory Commission
[Docket No. ER03-1345-000]
Midwest Independent Transmission System Operator, Inc.; Notice of Technical Conference
January 22, 2004.
Take notice that a technical conference will be held on Thursday, February 5, 2004, at 9 a.m. in room 3M-1, at the offices of the Federal Energy Regulatory Commission, 888 First Street, NE., Washington, DC 20426.
The technical conference will address the Midwest Independent Transmission System Operator, Inc.'s proposed revision to Attachment C of its Open Access Transmission Tariff, FERC Electric Tariff, Second Revised Volume 1 relating to the calculation of Available Flowgate Capacity, as proposed in its filing in the above docket.
Further details of the conference, including the agenda, will be specified in a subsequent notice. All interested persons and Staff are permitted to attend the conference, and registration is not required.

There will be no transcript of the conference and there will be no telephone link communications. For more information about the conference, please contact Nat Davis at (202) 502-6171 or nathaniel.davis@ferc.gov.

Magalie R. Salas,
Secretary.

[FR Doc. E4-146 Filed 01-29-04; 8:45 am]
BILLING CODE 6717-01-P